DEPARTMENT OF COMMERCE

U.S. Census Bureau

Proposed Information Collection; Comment Request; Commodity Flow Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before May 10, 2016.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to James Hinckley, Census Bureau, Room 6H051, Washington, DC 20233 (or via the Internet at james.hinckley@census.gov).

SUPPLEMENTARY INFORMATION:

I. Abstract

The Commodity Flow Survey, a component of the 2017 Economic Census, is the only comprehensive source of multimodal, system-wide data on the volume and pattern of goods movement in the United States. The Commodity Flow Survey is conducted in partnership with the Bureau of Transportation Statistics, Office of the Assistant Secretary for Research and Technology, U.S. Department of Transportation.

The Commodity Flow Survey data are used by policy makers and transportation planners in various federal, state, and local agencies to assess the demand for transportation facilities and services, energy use, and safety risks and environmental concerns. Additionally, business owners, private researchers, and analysts use the Commodity Flow Survey data for analyzing trends in the movement of goods, mapping spatial patterns of commodity and vehicle flows, forecasting demands for the movement of goods, and determining needs for associated infrastructure and equipment.

The survey provides data on the movement of commodities in the United States from their origin to destination. The survey produces summary statistics on value, tons, ton-miles and average miles by commodity, industry, and mode of transportation. The Census Bureau will publish these shipment characteristics for the nation, census regions and divisions, states, and CFS defined geographical areas.

Primary strategies for reducing respondent burden in the Commodity Flow Survey include: employing a stratified random sample of business establishments, requesting data on a limited sample of shipment records from each establishment, accepting estimates of shipping activity, and providing the opportunity for establishments to report electronically.

II. Method of Collection

The Commodity Flow Survey will be sent to a sample of business establishments in mining, manufacturing, wholesale, and select retail and services industries. The survey will also cover auxiliary establishments (i.e., warehouses and managing offices) of multi-establishment companies. Each selected establishment will receive four questionnaires, one during each calendar quarter of 2017. On each questionnaire, an establishment will be asked to report data for approximately 20-30 shipments for a predefined reporting week. These data will include the value, net weight, commodity, and origin and destination of each selected shipment. A limited number of establishments will be asked to report more than 40 shipments, providing better representation of their shipping activity. Respondents may report via paper questionnaire or via secure electronic reporting.

III. Data

OMB Control Number: 0607-0932.

Form Number: CFS 1000 (2017).

Type of Review: Regular submission.

Affected Public: Business and other for-profit.

Estimated Number of Respondents: 100,000.

Estimated Time per Response: 2.5 hours.

Estimated Total Annual Burden Hours: 1,000,000.

Estimated Total Cost: $0.

Respondent's Obligation: Mandatory.

Legal Authority: Title 13 U.S.C., Sections 8(b), 131 and 193; Title 49 U.S.C., Section 6302.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 8, 2016.
Glenna Mickelson,
Management Analyst, Office of the Chief Information Officer.

[FR Doc. 2016-05494 Filed 3-10-16; 8:45 am]

BILLING CODE 3510-07-P